DEPARTMENT OF TRANSPORTATION

Federal Aviation Administration

14 CFR Part 39

[Docket No. FAA-2015-0951; Directorate Identifier 2015-CE-007-AD]

RIN 2120-AA64

Airworthiness Directives; Przedsiebiorstwo Doswiadczalno-Produkcyjne Szybownictwa “PZL-Bielsko” Sailplanes

AGENCY: Federal Aviation Administration (FAA), Department of Transportation (DOT).

ACTION: Notice of proposed rulemaking (NPRM).

SUMMARY: We propose to adopt a new airworthiness directive (AD) for Przedsiebiorstwo Doswiadczalno-Produkcyjne Szybownictwa “PZL-Bielsko” Model SZD-50-3 “Puchacz” sailplanes. This proposed AD results from mandatory continuing airworthiness information (MCAI) originated by an aviation authority of another country to identify and correct an unsafe condition on an aviation product. The MCAI describes the unsafe condition as detachment of the rudder cable fitting block from the fuselage. We are issuing this proposed AD to require actions to address the unsafe condition on these products.

DATES: We must receive comments on this proposed AD by June 1, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Allstar PZL Glider, Sp. z o. o., ul. Cieszynska 325, 43-300 Bielsko-Biala, Poland; telephone: +48 33 812 50 26; fax: +48 33 812 37 39; email: techsupport@szd.com.pl; Internet: http://szd.com.pl/en/products/szd-50-3-puchacz. You may review this referenced service information at the FAA, Small Airplane Directorate, 901 Locust, Kansas City, Missouri 64106. For information on the availability of this material at the FAA, call (816) 329-4148. It is also available on the Internet at http://www.regulations.gov by searching for and locating Docket No. FAA-2015-0951.

Examining the AD Docket

You may examine the AD docket on the Internet at http://www.regulations.gov by searching for and locating Docket No. FAA-2015-0951; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2015-0951; Directorate Identifier 2015-CE-007-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2015-0046, dated March 16, 2015 (referred to after this as “the MCAI”), to correct an unsafe condition for the specified products. The MCAI states:

An occurrence was reported involving a SZD-50-3 “Puchacz” sailplane, where a rudder cable fitting block, located in the forward part of the fuselage, detached after application of a high load on the steering pedal during spin recovery operation. Subsequent investigations determined that the failure was either caused by a manufacturing deficiency or originated by a crack.

This condition, if not detected and corrected, could lead to further cases of rudder cable fitting block detachment, resulting in reduced control of the sailplane.

To address this unsafe condition, Allstar PZL issued Service Bulletin (SB) No. BE-063/SZD-50-3/2014, to provide inspection and reinforcement instructions.

For the reasons described above, this AD requires accomplishment of a one-time inspection of both (right hand (RH) and left hand (LH)) rudder cable fitting blocks to verify proper attachment to the fuselage shell and, depending on finding(s), a repair. This AD also requires reinforcement of the affected structural area.

You may examine the MCAI on the Internet at http://www.regulations.gov by searching for and locating Docket No. FAA-2015-0951.

Related Service Information Under 1 CFR part 51

Allstar PZL Glider has issued Mandatory Service Bulletin No. BE-063/SZD-50-3/2014 “Puchacz”, dated December 14, 2014. The service bulletin describes procedures for inspecting the area around the left-hand and right-hand rudder cable fitting blocks for cracks and detachment and making all necessary repairs. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 5 products of U.S. registry. We also estimate that it would take about 1 work-hour per product to comply with the inspection requirement of this proposed AD. The average labor rate is $85 per work-hour.

Based on these figures, we estimate the cost of the proposed inspection requirement of this proposed AD on U.S. operators to be $425, or $85 per product.

In addition, we estimate that it would take about 2 work-hours per product to comply with the modification requirement of this proposed AD and would require parts costing $100.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Przedsiebiorstwo Doswiadczalno-Produkcyjne Szybownictwa “PZL-Bielsko”: Docket No. FAA-2015-0951; Directorate Identifier 2015-CE-007-AD.

(a) Comments Due Date

We must receive comments by June 1, 2015.

(b) Affected ADs

None.

(c) Applicability

This AD applies to Przedsiebiorstwo Doswiadczalno-Produkcyjne Szybownictwa “PZL-Bielsko” Model SZD-50-3 “Puchacz” sailplanes, all serial numbers, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as detachment of the rudder cable fitting block from the fuselage. We are issuing this AD to prevent detachment of the rudder cable fitting block from the fuselage, which if not detected and corrected, could result in reduced control.

(f) Actions and Compliance

Unless already done, do the following actions:

(1) Within 30 days after the effective date of this AD, inspect the area around both the left-hand (LH) and the right-hand (RH) rudder cable fitting blocks following paragraph 3.1. of the INSTRUCTIONS section in Allstar PZL Glider Mandatory Service Bulletin No. BE-063/SZD-50-3/2014 “Puchacz”, dated December 14, 2014.

(2) If, during the inspection required in paragraph (f)(1) of this AD, any crack or fitting block detachment is found, before further flight, repair and reinforce the attachment of both the LH and RH rudder cable fitting blocks. Do this repair and reinforcement following paragraph 3.2. of the INSTRUCTIONS section in Allstar PZL Glider Mandatory Service Bulletin No. BE-063/SZD-50-3/2014 “Puchacz”, dated December 14, 2014.

(3) Unless already done following the requirement in paragraph (f)(2) of this AD, within the next 12 months after the effective date of this AD, reinforce the attachment of both the LH and RH rudder cable fitting blocks. Do this reinforcement following paragraph 3.2. of the INSTRUCTIONS section in Allstar PZL Glider Mandatory Service Bulletin No. BE-063/SZD-50-3/2014 “Puchacz”, dated December 14, 2014.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any sailplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2015-0046, dated March 16, 2015, for related information. You may examine the MCAI on the Internet at http://www.regulations.gov by searching for and locating Docket No. FAA-2015-0951. For service information related to this AD, contact Allstar PZL Glider, Sp. z o. o., ul. Cieszynska 325, 43-300 Bielsko-Biala, Poland; telephone: +48 33 812 50 26; fax: +48 33 812 37 39; email: techsupport@szd.com.pl; Internet: http://szd.com.pl/en/products/szd-50-3-puchacz. You may review this referenced service information at the FAA, Small Airplane Directorate, 901 Locust, Kansas City, Missouri 64106. For information on the availability of this material at the FAA, call (816) 329-4148.

Issued in Kansas City, Missouri, on April 8, 2015.
Earl Lawrence,
Manager, Small Airplane Directorate, Aircraft Certification Service.

[FR Doc. 2015-08733 Filed 4-16-15; 8:45 am]

BILLING CODE 4910-13-P